DEPARTMENT OF THE TREASURY

Internal Revenue Service

[IA-57-94]

Proposed Collection: Comment Request for Regulation Project; Correction

AGENCY: Internal Revenue Service (IRS), Treasury.

ACTION: Correction to notice and request for comments.

SUMMARY: This document contains a correction to a notice and request for comments, which was published in the Federal Register on Monday September 22, 2003 (68 FR 55101). This notice relates to a comment request on proposed and/or continuing information collections, as required by the Paperwork Reduction Act of 1995, Pub. L. 104-13 (44 U.S.C. 3506 (c)(2)(A)).

FOR FURTHER INFORMATION CONTACT: Allan Hopkins, (202) 622-6665 (not a toll free number).

SUPPLEMENTARY INFORMATION:

Background

This notice and request for comments that is the subject of the correction is required by the Paperwork Reduction Act of 1995, Pub. L. 104-13 (44 U.S.C. 3506(c)(2)(A)).

Need for Correction

As published, the comment request for Regulation Project (IA-57-94) contains an error which may prove to be misleading and is in need of clarification.

Correction of Publication

Accordingly, the publication of the comment request for Regulation Project, (IA-57-94), which was the subject of FR Doc. 03-24137, is corrected as follows:

On page 55101, column 2, under the caption SUPPLEMENTARY INFORMATION:, line 2, the language “OMB Number: 1545-14499” is corrected to read “OMB Number: 1545-1449''.

Cynthia E. Grigsby,
Acting Chief, Publications and Regulations Branch, Legal Processing Division, Associate Chief Counsel (Procedure and Administration).

[FR Doc. 03-29603 Filed 11-25-03; 8:45 am]

BILLING CODE 4830-01-P